DEPARTMENT OF COMMERCE

International Trade Administration

[A-570-863]

Honey From the People's Republic of China: Notice of Partial Rescission of Antidumping Duty Administrative Review; 2015-2016

AGENCY: Enforcement and Compliance, International Trade Administration, Department of Commerce

SUMMARY: The Department of Commerce (the Department) is partially rescinding the administrative review of the antidumping duty order on honey from the People's Republic of China (PRC) with respect to Shayang Xianghe Food Co., Ltd. (Shayang Xianghe) for December 1, 2015, through November 30, 2016.

DATES: Effective March 21, 2017.

FOR FURTHER INFORMATION CONTACT: Carrie Bethea or Kabir Archuletta, AD/CVD Operations, Office V, Enforcement and Compliance, International Trade Administration, U.S. Department of Commerce, 1401 Constitution Avenue NW., Washington, DC 20230; telephone: (202) 482-1491 or (202) 482-2593, respectively.

SUPPLEMENTARY INFORMATION:

Background

On February 13, 2017, based on a timely request for review on behalf of the American Honey Producers Association and Sioux Honey Association (collectively, petitioners),¹ the Department published in the Federal Register a notice of initiation of an administrative review of the antidumping duty order on honey from the PRC covering the period December 1, 2015, through November 30, 2016.²

¹ See Letter to the Secretary from Petitioners, entitled, “Honey from the People's Republic of China—Request for Administrative Review; 2015-2016,” dated January 3, 2017.

² See Initiation of Antidumping and Countervailing Duty Administrative Reviews, 82 FR 10457 (February 13, 2017).

The review covers two companies: Shanghai Sunbeauty Trading Co., Ltd. and Shayang Xianghe. On February 28, 2017, petitioners timely withdrew their request for an administrative review of Shayang Xianghe.³ No other party requested an administrative review of this company.

³ See Letter to the Secretary from Petitioners, entitled, “Honey from the People's Republic of China—Petitioners' Withdrawal of Request for 2015/2016 Administrative Review, in Part,” dated February 28, 2017.

Partial Rescission of Review

Pursuant to 19 CFR 351.213(d)(1), the Department will rescind an administrative review in whole or in part, if the party that requested the review withdraws its request within 90 days of the date of publication of the notice of initiation of the requested review. In this case, petitioners timely withdrew their request of Shayang Xianghe by the 90-day deadline, and there are no other outstanding requests for an administrative review of the antidumping duty order with respect to this company. As a result, pursuant to 19 CFR 351.213(d)(1), we are rescinding the administrative review of honey from the PRC for the period December 1, 2015, through November 30, 2016, in part, with respect to Shayang Xianghe.

Assessment Instructions

The Department will instruct U.S. Customs and Border Protection (CBP) to assess antidumping duties on all appropriate entries. For the company for which this review is rescinded, Shayang Xianghe, antidumping duties shall be assessed at rates equal to the cash deposit of estimated antidumping duties required at the time of entry, or withdrawal from warehouse, for consumption, in accordance with 19 CFR 351.212(c)(1)(i). The Department intends to issue appropriate assessment instructions to CBP 15 days after the publication of this notice in the Federal Register, if appropriate.

Notifications

This notice serves as a final reminder to importers of their responsibility under 19 CFR 351.402(f)(2) to file a certificate regarding the reimbursement of antidumping duties prior to liquidation of the relevant entries during this review period. Failure to comply with this requirement could result in the Department's presumption that reimbursement of the antidumping duties occurred and the subsequent assessment of doubled antidumping duties.

This notice also serves as a final reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

This notice is issued and published in accordance with sections 751(a)(1) and 777(i)(1) of the Tariff Act of 1930, as amended, and 19 CFR 351.213(d)(4).

Dated: March 15, 2017.
Gary Taverman,
Associate Deputy Assistant Secretary for Antidumping and Countervailing Duty Operations.

[FR Doc. 2017-05531 Filed 3-20-17; 8:45 am]

BILLING CODE 3510-DS-P